DEPARTMENT OF AGRICULTURE

Forest Service

Notice of Resource Advisory Committee Meeting

AGENCY: Lassen Resource Advisory Committee, Susanville, CA, USDA Forest Service.

ACTION: Notice of meetings.

SUMMARY: Pursuant to the authorities in the Federal Advisory Committees Act (Pub. L. 92-463) and under the Secure Rural Schools and Community Self-Determination Act of 2000 (Pub. L. 110-343) the Lassen County Resource Advisory Committee will meet October 8, 2009 in Susanville, California for a business meeting. The meeting is open to the public.

SUPPLEMENTARY INFORMATION: The business meeting on October 8, 2009 will begin at 9 a.m., at the Lassen National Forest Headquarters Office, Caribou Conference Room, 2550 Riverside Drive, Susanville, CA 96130. This meeting will be dedicated to review the process for 2009 funding cycle, discuss project review with monthly monitoring reports and the future monitoring process, and report out on summer field trips to projects.

FOR FURTHER INFORMATION CONTACT: Contact Tern Frolli, Designated Federal Official, at (530) 257-4188; or Public Affairs Officer, Heidi Perry, at (530) 252-6604.

Lorene T. Guffey,
Acting Forest Supervisor.

[FR Doc. E9-22574 Filed 9-18-09; 8:45 am]

BILLING CODE M